ENVIRONMENTAL PROTECTION AGENCY

40 CFR Part 271

[EPA-R01-RCRA-2006-0062; FRL-8038-3]

New Hampshire: Final Authorization of State Hazardous Waste Management Program Revisions

AGENCY: Environmental Protection Agency (EPA).

ACTION: Immediate final rule.

SUMMARY: The State of New Hampshire has applied to EPA for Final authorization of certain changes to its hazardous waste program under the Resource Conservation and Recovery Act (RCRA). EPA has determined that these changes satisfy all requirements needed to qualify for final authorization, and is authorizing the State's changes through this immediate final action.

DATES: This Final authorization will become effective on April 28, 2006 unless EPA receives adverse written comment by March 29, 2006. If EPA receives such comment, it will publish a timely withdrawal of this immediate final rule in the Federal Register and inform the public that this authorization will not take effect.

ADDRESSES: EPA has established a docket for this action under Docket ID No. EPA-R01-RCRA-2006-0062. All documents in the docket are listed on the http://www.regulations.gov Web site. Although listed in the index, some information might not be publicly available, e.g., CBI or other information whose disclosure is restricted by statute. Certain other material, such as copyrighted material, is not placed on the Internet and will be publicly available only in hard copy form. Publicly available docket materials are available either electronically through http://www.regulations.gov or in hard copy at the following two locations: (i) EPA Region 1 Library, One Congress Street—11th Floor, Boston, MA 02114-2023; Business Hours: 10 a.m.-3 p.m., Monday through Thursday; tel: (617) 918-1990; and (ii) New Hampshire Department of Environmental Services, Public Information Center, 29 Hazen Drive, PO Box 95, Concord, New Hampshire 03302-0095; Business Hours: 8 a.m. to 4 p.m., Monday through Friday; tel: (603) 271-2919 or 271-2975.

ADDRESSES: Submit your comments, identified by Docket ID No. EPA-R01-RCRA-2006-0062, by one of the following methods:

• http://www.regulations.gov: Follow the on-line instructions for submitting comments.

• E-mail: yee.steve@epa.gov.

• Fax: (617) 918-0197, to the attention of Stephen Yee.

• Mail: Stephen Yee, Hazardous Waste Unit, EPA Region 1, One Congress Street, Suite 1100 (CHW), Boston, MA 02114-2023.

• Hand Delivery or Courier: Deliver your comments to: Stephen Yee, Hazardous Waste Unit, Office of Ecosystem Protection, EPA Region 1, One Congress Street, 11th Floor, (CHW), Boston, MA 02114-2023. Such deliveries are only accepted during the Office's normal hours of operation, and special arrangements should be made for deliveries of boxed information.

Instructions: Identify your comments as relating to Docket ID No. EPA-R01-RCRA-2006-0062. EPA's policy is that all comments received will be included in the public docket without change and may be made available online at http://www.regulations.gov, including any personal information provided, unless the comment includes information claimed to be Confidential Business Information (CBI) or claimed to be other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Stephen Yee, Hazardous Waste Unit, EPA Region 1, One Congress Street, Suite 1100 (CHW), Boston, MA 02114-2023, telephone number: (617) 918-1197; fax number: (617) 918-0197, e-mail address: yee.steve@epa.gov.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We have concluded that New Hampshire's application to revise its authorized program meets all of the statutory and regulatory requirements established by RCRA. Therefore, we grant New Hampshire Final authorization to operate its hazardous waste program with the changes described in the authorization application. New Hampshire has responsibility for permitting Treatment, Storage, and Disposal Facilities (TSDFs) within its borders and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement any such requirements and prohibitions in New Hampshire, including issuing permits, until the State is granted authorization to do so.

C. What Is the Effect of Today's Authorization Decision?

The effect of this decision is that a facility in New Hampshire subject to RCRA will now have to comply with the authorized State requirements instead of the equivalent Federal requirements in order to comply with RCRA. New Hampshire has enforcement responsibilities under its State hazardous waste program for violations of such program, but EPA also retains its full authority under RCRA sections 3007, 3008, 3013, and 7003, which includes, among others, authority to:

• Perform inspections, and require monitoring, tests, analyses or reports.

• Enforce RCRA requirements and suspend or revoke permits.

• Take enforcement actions.

This action does not impose additional requirements on the regulated community because the regulations for which New Hampshire is being authorized by today's action are already effective under state law, and are not changed by today's action.

D. Why Wasn't There a Proposed Rule Before Today's Rule?

EPA did not publish a proposal before today's rule because we view this as a routine program change and do not expect adverse comments that oppose this approval. We are providing an opportunity for public comment now. In addition to this rule, in the proposed rules section of today's Federal Register we are publishing a separate document that proposes to authorize the State program changes.

E. What Happens if EPA Receives Comments That Oppose This Action?

If EPA receives comments that oppose this authorization, we will withdraw this rule by publishing a document in the Federal Register before the rule becomes effective. EPA will base any further decision on the authorization of the State program changes on the proposal mentioned in the previous paragraph. We will then address all public comments in a later final rule based upon this proposed rule that also appears in today's Federal Register. You may not have another opportunity to comment. If you want to comment on this authorization, you should do so at this time.

If we receive adverse comments that oppose only the authorization of a particular change to the State hazardous waste program, we will withdraw that part of this rule but the authorization of the program changes that the comments do not oppose will become effective on the date specified above. The Federal Register withdrawal document will specify which part of the authorization will become effective, and which part is being withdrawn.

F. What Has New Hampshire Previously Been Authorized for?

The State of New Hampshire initially received Final authorization on December 18, 1984, with an effective date of January 3, 1985 (49 FR 49093) to implement the RCRA hazardous waste management program. Subsequent statutory changes and significant revisions to the New Hampshire Hazardous Waste Management Regulations resulted in New Hampshire's submission of a program revision application for certain changes. The Region published an immediate final rule for these changes and revisions on November 14, 1994 (59 FR 56397) with an effective date of January 13, 1995.

G. What Changes Are We Authorizing With Today's Action?

On August 31, 2005, New Hampshire submitted a final complete program revision application, seeking authorization for their changes in accordance with 40 CFR 271.21. In particular, New Hampshire is seeking authorization for updated state regulations addressing most federal requirements through June 30, 2002 and also for changes to New Hampshire's base program for which they had been previously authorized. Significant program revisions in this package include the Universal Waste and the Toxicity Characteristic (TC) Rules.

We are now making an immediate final decision, subject to reconsideration only if we receive written comments that oppose this action, that New Hampshire's hazardous waste program revisions satisfy all of the requirements necessary to qualify for Final authorization. Therefore, we grant New Hampshire Final authorization for the following program changes:

Description of Federal requirement and checklist reference No. | Analogous State authority ¹
Updated State Regulations
Non-HSWA Cluster VI (July 1, 1989-June 30, 1990)
(64) Delay of Closure Period for Hazardous Waste Management Facilities (54 FR 33376-33398, 8/14/89):
264.13(a) & (b) | Env-Wm 708.02(a)(2).
264.112(d) & 113 | Env-Wm 708.02(a)(12).
264.142 | Env-Wm 708.02(a)(13).
265.13 | Env-Wm 707.02(a)(2).
265.112(d) & 113 | Env-Wm 707.02(a)(11).
265.142 | Env-Wm 707.02(a)(12).
270.42, Appendix I | Env-Wm 353.25(b).
(67) Testing and Monitoring Activities (54 FR 40260-40269, 9/29/89):
260.11(a) | Env-Wm 401.06.
261, Appendix III | Env-Wm 401.04.
(70) Changes to part 124 Not Accounted for by Present Checklists (48 FR 14146-14295, 4/1/83, 48 FR 30113-30115, 6/30/83, 53 FR 28118-28157, 7/26/88, 53 FR 37396-37414, 9/26/88, 54 FR 246-258, 1/4/89):
124.3(a) & (a)(1) | N/A—see Env-Wm 351.02 & 353.03.
124.3(a)(2) | Env-Wm 353.12 & 353.13.
124.3(a)(3) | Env-Wm 353.10(e).
124.5(a) | N/A—see Env-Wm 353.26 & 353.27.
124.5(c) (1) & (3) | N/A—see Env-Wm 353.25(b) & 353.26(h)—NH does not have an exemption for minor modifications.
124.5(d) | N/A—see Env-Wm 353.27.
124.6(d)(1)-(3) | N/A—see Env-Wm 353.19(b)(1)-(3).
124.6(d)(4) | N/A—see Env-Wm 353.19(b)(4).
124.10(c)(1) | N/A—see Env-Wm 353.21(a)(5)c & d.
124.12(a)(2) | N/A—see Env-Wm 353.21(d)(2).
(72) Modification of F019 Listing (55 FR 5340-5342, 2/14/90):
261.32 | Env-Wm 402.06(a).
(73) Testing and Monitoring Activities; Technical Corrections (55 FR 8948-8950, 3/9/90):
260.11 | Env-Wm 401.06.
261, Appendix III, Tables 2 & 3 | Env-Wm 401.04.
(76) Criteria for Listing Toxic Wastes; Technical Amendment (55 FR 18726, 5/4/90):
260.11 | Env-Wm 405.02(b).
HSWA Cluster I (July 1, 1984-June 30, 1987):
(14) Dioxin Waste Listing and Management Standards (50 FR 1978-2006, 1/14/85):
261.5(e) | Env-Wm 503.01(b) & 508.01—SQG acute HW not exempt.
261.7(b) | Env-WM 401.03(h).
261.31 | Env-Wm 402.06—NH lists Used Oil as an F Waste.
261.33(f) | Env-Wm 402.05.
261, Appendix III, Tables 1 & 3 | Env-Wm 401.04.
261, Appendix VII | Env-Wm 402.01(c).
261, Appendix VIII | Env-Wm 405.02(b) & 803.03(b)(5)a.
261, Appendix VIII—Hazardous Constituents | Env-Wm 406.02(b)(5) & 406.02(e)(1)-(3).
261, Appendix X | N/A—Appendix X removed in 1993.
264.175(c) & (d) | Env-Wm 708.03(d)(1).
264.194(c)(2) & 200(a) | Env-Wm 708.03(d)(2).
264.231 | Env-Wm 708.03(d)(3).
264.259 | Env-Wm 708.03(d)(4).
264.283 | Env-Wm 708.03(d)(5).
264.317 | Env-Wm 708.03(d)(6).
264.343(a) | Env-Wm 708.03(d)(7).
265.1(d)(1) | Env-Wm 701.03(b).
265.352 | Env-Wm 707.03(g).
265.383 | Env-Wm 707.03(h).
270.14(b)(7), 16(g), 17(j), 18(j), 20(j), & 21(j) | Env-Wm 353.11(a)(9).
(17R) Hazardous Waste Exports (HSWA Codification Rule (50 FR 28702-28755, 1/14/85)—This checklist has been superseded by Revision Checklist 31:
262.50(d) | N/A.
(17S) Exposure Information (HSWA Codification Rule (50 FR 28702-28755, 1/14/85):
270.16(a) | Env-Wm 353.16(a)—NH would consider an application incomplete if it is missing the information required by 270.10(j) incorporated by reference at 353.11(a)(9) provided this information is pertinent to the application.
270.10(j) | Env-Wm 353.11(a)(9).
(30) Biennial Report Correction (51 FR 28556, 8/8/86):
264.75(h), (i), & (j) & 265.75(h), (i), & (j) | N/A—EPA no longer requires this in this report.
(31) Exports of Hazardous Waste (51 FR 28664-28686, 8/8/86):
261.5(f)(3) & (g)(3) | N/A—NH Does not exempt generators of less than 100 kgs/mo.
261.6(a)(3)(i) | Env-Wm 802.02(a)(1)—NH has not adopted the reference to 40 CFR 262.58. NH thus is more stringent.
262.41(a) | Env-Wm 512.02—NH requires a quarterly report—more stringent.
262.41(a)(3), (4), & (5) | Env-Wm 510.03(a) & 512.02(g)(3).
262.41(b) | Env-Wm 512.03.
262, Subparts E & F | Env-Wm 510.06 incorporates 262, Subparts E & F by reference.
262.70 | Env-Wm 501.02(a).
262, Appendix | Env-Wm 510.03(a).
263.20(a) | Env-Wm 604.01(b) & 604.04(a)—40 CFR 262 Subpart H has not yet adopted which is an optional requirement.
263.20(c) | Env-Wm 604.04(a).
263.20(e)(2) & (f)(2) | Env-Wm 604.03(b) & (c).
263.20(g)(3) | Env-Wm 604.04(b)(3).
263.20(g)(4) | Env-Wm 604.04(b)(4).
HSWA Cluster II (July 1, 1987-June 30, 1990):
(48) Farmer Exemptions; Technical Corrections (53 FR 27164-27165, 7/19/88):
262.10(b) | N/A—NH does not exempt generators of less than 100 kgs/mo.
264.1(g)(4) | Env-Wm 701.02(a)(7).
265.1(c)(8) | Env-Wm 701.02(a)(7).
268.1(c)(5) | N/A—NH has not yet adopted 40 CFR 268 (LDR).
270.1(c)(2)(ii) | Env-Wm 351.03(d).
(68) Reportable Quantity Adjustment Methyl Bromide Production Wastes (54 FR 41402-41408, 10/6/89):
261.32 | Env-Wm 402.07.
261, Appendix III | Env-Wm 401.04.
261, Appendix VII | Env-Wm 402.01(c).
(69) Reportable Quantity Adjustment (54 FR 50968-50979, 12/11/89):
261.31 | Env-Wm 402.06.
261, Appendix VII | Env-Wm 402.01(c).
261, Appendix VIII | Env-Wm 803.03(b)(4)(a), 405.02(b), 406.02(b)(5), & 406.02(e)(1)—(3).
(74) Toxicity Characteristic Revisions (55 FR 11798-11877, 3/29/90 as amended on 6/29/90, at 55 FR 26986-26998):
See SPECIAL CONSOLIDATED CHECKLIST for the Toxicity Characteristic Revisions as of 12/31/02, below:
(75) Listing of 1,1-Dimethylhydrazine Production Wastes (55 FR 18496-18506, 5/2/90):
261.32 | Env-Wm 402.07.
261, Appendix III | Env-Wm 401.04.
261, Appendix VII | Env-Wm 402.01(c).
(77) HSWA Codification Rule, Double Liners; Correction (55 FR 19262-19264, 5/9/90):
264.221(c) | Env-Wm 708.03(d)(3).
264.301(c) | Env-Wm 708.03(d)(6).
RCRA Cluster I (July 1, 1990-June 30, 1991):
(84) Toxicity Characteristic; Chlorofluorocarbon Refrigerants (56 FR 5910-5915, 2/13/91):
See SPECIAL CONSOLIDATED CHECKLIST for the Toxicity Characteristic Revisions as of 12/31/02, below:
RCRA Cluster II (July 1, 1991-June 30, 1992):
(97) Exports of Hazardous Waste; Technical Correction (56 FR 43704-43705, 9/4/91):
262.53(b) & 56(b) | Env-Wm 510.06 incorporates 262 Subpart E by reference.
(99) Amendments to Interim Status Standards for Downgradient Ground-Water Monitoring Well Locations (56 FR 66365-66369, 12/23/91):
260.10 | Env-Wm 110.01(a).
265.91(a)(3) | Env-Wm 707.02(a)(10).
(100) Liners and Leak Detection Systems for Hazardous Waste Land Disposal Units (57 FR 3462-3497, 1/29/92):
260.10 | Env-Wm 110.01(a).
264.15(b)(4) | Env-Wm 708.02(a)(4).
264.19(a)-(d) | Env-Wm 708.02(a)(8).
264.73(b)(6) | Env-Wm 705.01(b)(6) & (8).
264.221(c), (d), (f), & (g)-(i), 222(a) & (b), 223(a), (b), & (c), 226(d), 228(b)(2)-(4), 251(c), (d), (e), (f), & (g)-(k), 252(a) & (b), 253(a), (b), & (c), 254(c), 301(c), (d), (f), & (g)-(l), 302(a) & (b), 303(c), 304(a), (b), & (c), & 310(b)(3)-(6) | Env-Wm 708.03(d)(3) incorporates 264 Subpart K by reference.
265.15(b)(4) & 19(a)-(d) | Env-Wm 707.02(a)(4) incorporates 265.15 by reference.
265.73(b)(6) | Env-Wm 705.01(b)(6) & (13).
265.221(a), (c), (f), & (g), 222(a), (b), & (c), 223(a) & (b), 226(b), 228(b)(2)-(4), 254, 255(a)-(c), 259(a)-(c), 269, 301(a), (c), & (f)-(i), 302(a)-(d), 303(a)-(c), 304(a)-(c), & 310(b)(3)-(6) | Env-Wm 707.03(c) incorporates 265 Subpart K by reference.
270.4(a) | Env-Wm 353.06(a).
270.17(a)-(c), & 18(c) & (d) | Env-Wm 353.11(a)(9)
271.21(b) & (d) | Env-Wm 353.11(a)(9).
270.42, Appendix I | Env-Wm 353.25(b).
(104) Used Oil Filter Exclusion (57 FR 21524-21534, 5/20/92):
264.4(b)(15) | Env-Wm 401.03(b)(10).
RCRA Cluster III (July 1, 1992-June 30, 1993):
(107) Used Oil Filter Exclusion; Technical Corrections (57 FR 29220, 7/1/92):
264.4(b)(15) | Env-Wm 401.03(b)(10).
(108) Toxicity Characteristic Revisions; Technical Corrections (57 FR 30657-30658, 7/10/92):
See SPECIAL CONSOLIDATED CHECKLIST for the Toxicity Characteristic Revisions as of 12/31/02, below:
(110) Coke By-Products Listings (57 FR 37284-37306, 8/18/92):
261.4(a)(10) | N/A—NH has not adopted this exclusion.
261.32 | Env-Wm 402.07(a) Table 4.7.
261, Appendix VII | Env-Wm 401.04.
(113) Consolidated Liability Requirements (53 FR 33938-33960, 9/1/88; 56 FR 30200, 7/1/91, 57 FR 42832-42844, 9/16/92):
264.141(h), 143(f)(10) & (11), 147(a), (b), (f)(6), & (g)-(k), & 151(b), (f), (g), (h), (i), (j), (k), (l), (m), & (n) | Env-Wm 708.02(a)(13) incorporates 264 Subpart H by reference.
265.141(h), 143(f)(10), 145(f)(11), & 147(a), (b), (f)(6), & (g)-(k) | Env-Wm 707.02(a)(12) incorporates 265 Subpart H by reference.
(115) Chlorinated Toluenes Production Waste Listing (57 FR 47376-47386, 10/15/92):
261.32 | Env-Wm 402.07.
261, Appendix VII | Env-Wm 402.01(c).
(117B) Toxicity Characteristic Amendment (57 FR 23062-23063, 6/1/92):
See SPECIAL CONSOLIDATED CHECKLIST for the Toxicity Characteristic Revisions as of 12/31/02, below:
(118) Liquids in Landfills II (57 FR 54452-54461, 11/18/92):
260.10 | Env-Wm 110.01(a).
264.13(c)(3) | Env-Wm 708.02(a) incorporates 264.13 by reference.
264.314 & 316(b) & (c) | Env-Wm 708.03(d)(6) incorporates 264 Subpart N by reference.
265.13(c)(3) | Env-Wm 707.02(a) incorporates 265.13 by reference.
265.314(a), (b), (c), (f), & (g) & 316(b) & (c) | Env-Wm 707.03(f) incorporates 265 Subpart N by reference.
(119) Toxicity Characteristic Revision; TCLP Correction (57 FR 55114-55117, 11/24/92, as amended on 2/2/93 at 58 FR 6854):
See SPECIAL CONSOLIDATED CHECKLIST for the Toxicity Characteristic Revisions as of 12/31/02., below:
RCRA Cluster IV (July 1, 1993-June 30, 1994):
(126) Testing and Monitoring Activities (58 FR 46040-46051, 8/31/93 as amended 9/19/94, at 59 FR 47980-47982):
260.11(a) | Env-Wm 401.06.
260.22(d)(1)(i) | Env-Wm 406.01(a)(2)—NH will only consider delisting petitions for federally regulated waste if it is already delisted by EPA.
261.22(a)(1) & (2) | Env-Wm 403.04(b)(1) & (2).
261.24(a) | Env-Wm 403.06(a) & (b).
261, Appendix II & III | Env-Wm 401.04.
261, Appendix X—remove |
264.190(a) | Env-Wm 708.03(d)(2).
264.314(c) | Env-Wm 708.03(d)(6).
265.190(a) | Env-Wm 707.03(b).
265.314(d) | Env-Wm 707.03(f).
268.7(a), 40(a), 41(a), & Appendix I & IX | N/A—NH has not yet adopted 40 CFR 268 (LDR).
270.6(a) | Env-Wm 401.06.
270.19(c)(1)(iii) & (iv) | Env-Wm 353.11(a)(9).
270.62(b)(2)(i)(C) & (D) | Env-Wm 353.05(b).
270.66(c)(2) | N/A—NH has not yet adopted rules relating to Boilers and Industrial (BIF) Rules.
(128) Wastes From the Use of Chlorophenolic Formulations in Wood Surface Protection (59 FR 458-469, 1/4/94):
260.11(a) | Env-Wm 401.06.
261, Appendix VIII | Env-Wm 803.03(b)(5)a, 405.02(b), 406.02(b)(5), 406.02(e)(1)-(3).
(131) Recordkeeping Instructions; Technical Amendment (59 FR 13891-13893, 3/24/94).
264 & 265, Appendix I/Tables 1 & 2 | Env-Wm 705.01(b)(2)e & f.
(132) Wood Surface Protection; Correction (59 FR 28484, 6/2/94):
260.11(a) | Env-Wm 110.01(c)(124), 401.06.
(133) Letter of Credit Revision (59 FR 29958-29960, 6/10/94):
264.151(d) & (k) | Env-Wm 708.02(a)(13).
(134) Correction of Beryllium Powder (P015) Listing (59 FR 31551-31552, 6/20/94):
261.33(e) | Env-Wm 402.04(b).
261, Appendix VIII | Env-Wm 803.03(b)(5)a, 405.02(b), 406.02(b)(5), 406.02(e)(1)—(3).
268.42(a)/Table 2 | N/A—NH has not yet adopted 40 CFR 268 (LDR).
RCRA Cluster V (July 1, 1994-June 30, 1995):
(139) Testing and Monitoring Activities Amendment I (60 FR 3089-3095, 1/13/95):
260.11(a) | Env-Wm 401.06.
(141) Testing and Monitoring Activities Amendment II (60 FR 17001-17004, 4/4/95):
260.11(a) | Env-Wm 401.06.
(142 A) Universal Waste: General Provisions, (142 B) Universal Waste Rule: Specific Provisions for Batteries, (142 C) Universal Waste: Specific Provisions for Pesticides, (142 D) Universal Waste Rule: Specific Provisions for Thermostats, (142 E) Universal Waste Rule: Petition Provisions to Add a New Universal Waste, (60 FR 25492-25551, 5/11/95):
See SPECIAL CONSOLIDATED CHECKLIST for the Universal Waste Rule as of 12/31/02, below:
RCRA Cluster VI (July 1, 1995-June 30, 1996):
(145) Liquids in Landfills III (60 FR 35703-35706, 7/11/95):
264.314(e)(2)(ii) & (iii) | Env-Wm 708.03(d)(6).
265.314(f)(2)(ii) & (iii) | Env-Wm 707.03(f).
RCRA Cluster VII (July 1, 1996-June 30, 1997):
(153) Conditionally Exempt Small Quantity Generator Disposal Options under Subtitle D (61 FR 34252-34278, 7/1/96):
261.5(f)(3) & (g)(3) | N/A—NH does not exempt generators of less than 100 kgs/mo.
RCRA Cluster IX (July 1, 1998-June 30, 1999):
(176) Universal Wate Rule—Technical Amendments (63 FR 71225-71230, 12/24/98):
See SPECIAL CONSOLIDATED CHECKLIST for the Universal Waste Rule as of 12/31/02, below:
RCRA Cluster X (July 1, 1999-June 30, 2000):
(181) Universal Waste Rule: Specific Provisions for Hazardous Waste Lamps (64 FR 36466-36490, 7/6/99):
See SPECIAL CONSOLIDATED CHECKLIST for the Universal Waste Rule as of 12/31/02, below:
(184) Accumulation Time for Waste Water Treatment Sludges (65 FR 12378-12398, 3/8/00):
262.34(a)(4) | Env-Wm 509.02(2), (4), & (5); reference to 40 CFR 268.7(a)(5) is not applicable since NH has not yet adopted 40 CFR 268 (LDR).
262.34(g) | Env-Wm 507.02(c).
262.34(h) | N/A—NH does not allow generators who generate 1000 kgs or greater of HW/mo to accumulate waste on-site for up to 270 days without a permit—NH thus is more stringent.
262.34(i) | Env-Wm 507.02(d)-(g).
RCRA Cluster XII (July 1, 2001-June 30, 2002):
(199) Vacatur of Mineral Processing Spent Materials Being Reclaimed as Solid Wastes and TCLP Use with MGP Waste (67 FR 11251-11254, 3/13/02):
261.2(c)(3) & 261.4(a)(17) | N/A—NH has not adopted an exemption equivalent to 40 CFR 261.4(a)(17).
261.24(a) | Env-Wm 401.03(b)(22)—NH is partially broader in scope in that it regulates some MGP wastes.
SPECIAL CONSOLIDATED CHECKLIST for the Universal Waste Rule as of December 31, 2002:
260.10—(RCLs 142A-D & 181) | Env-Wm 110.01(a) & (c)(9), (37), (62), (74), (98), (130), (142), (143) & (145)—NH has added additional wastes to the definition of “universal waste”.
260.20(a) & 23—(RCL 142E) | Env-Wm 210.01.
261.5(c), (f), & (g)—(RCLs 142A & 153) | N/A—NH does not exempt very small quantity generators (generators of less than 100 kgs/mo).
261.6(a)(3)(ii)-(iv)—(RCL 142B) | NH has not deleted its exemption from its hazardous waste rules for batteries at Env-Wm 802.02(a)(2), which is comparable to the prior but now deleted federal exemption. This is acceptable because NH currently nevertheless regulates batteries under its universal waste rule. At present, NH defines “hazardous waste rules” as those covering its hazardous waste through Env-Wm 1000 which does not include the Env-Wm 1100 universal waste rule regulations. For clarity, NH plans to remove the Env-Wm 802.02(a)(2) exemption in a future State rulemaking, while simultaneously adding Env-1100 to its definition of “hazardous waste rules.”
261.9—(RCLs 142A-D, & 181) | Env-Wm 110.01(c)(142), 351.03(i), 501.02(e), 601.02(d), 701.02(a)(13), 1101.01, 1101.02(a) & (c)—NH has added other waste to the definition of “universal waste”.
262.10(b) & (c)—(RCL 142A) | NA—NH does not exempt very small quantity generators.
262.10(d)-(h)—(RCLs 142A & 152) | NH has not yet adopted the changes required by RCL 152 which are optional requirements.
262.11(d)—(RCL 142A) | Env-Wm 502.01 & 1102.01—NH did not adopt an analog to 40 CFR 262.11(d) since that section contains a cross reference to other requirements and NH has those other requirements.
264.1(g)(11)—(RCLs 142A-D & 181) | Env-Wm 110.01(c)(142) & 701.02(a)(13).
265.1(c)(14)—(RCLs 142A-D & 181) | Env-Wm 110.01(c)(142) & 701.02(a)(13)—NH includes all mercury containing devices, not just thermostats, in the definition of “universal waste”.
266.80(a)—(RCLs 142B & 176) | Env-Wm 809.01.
266.80(a)/Table—(RCL 176) | Instead of table, NH has applicability statements in Env-Wm 804.02(f), 809.01-04, and 1109.01.
266.80(b)—(RCLs 142B & 176) | Env-Wm 351.02, 351.02(b), 701.01(a) & (c), 804.02(f), 809.01 & 04, and 1109.01.
268.1(f)—(RCLs 142A-D, 181) | N/A—NH has not yet adopted 40 CFR 268 (LDR).
270.1(c)(2)—(RCLs 142A-D, 181) | Env-Wm 110.01(c)(142) & 351.03(i)).
273.1(a) & (b)—(RCLs 142A-D, 181) | Env-Wm 110.01(c)(142), 1101.01, & 1101.02.
273.2—(RCLs 142B & 181) | Env-Wm 110.01(c)(142), 401.01, 403.01(a), 1101.01, 1101.02(a), 1109.01 & 02—NH did not adopt an analog to 40 CFR 273.2(b)(2) because that section's statement when hazardous materials becomes hazardous wastes is also covered in 40 CFR 261.2 & 3. NH is equivalent to 40 CFR 261.2 & 3 in Env-Wm 400 & 800.
273.3(a)-(d)—(RCLs 142C & 181) | Env-Wm 110.01(c)(142), 401.01, 1101.01(a), 1101.02, & 1110.01-03—NH did not adopt an analog to 40 CFR 273.3(b)(2)-(4) & 273.3(d) because that section's statement when hazardous materials becomes hazardous wastes is also covered in 40 CFR 261.2 & 3. NH is equivalent to 40 CFR 261.2 & 3 in Env-Wm 400 & 800.
273.4(a)-(c)—(RCLs 142D & 181) | Env-Wm 110.01(c)(142), 401.01, 403.01(a), 1101.01 & .02, & 1111.01 & 02.—NH did not adopt an analog to 40 CFR 273.4(b) & (b)(2) because that section's statement when hazardous materials becomes hazardous wastes is also covered in 40 CFR 261.2 & 3. NH is equivalent to 40 CFR 261.2 & 3 in Env-Wm 400 & 800.
273.5(a)-(c)—(RCL 181) | Env-Wm 110.01(c)(142), 401.01, 403.01(a), 1101.01 & 02, & 1112.01 & 02—NH did not adopt an analog to 40 CFR 273.5(b) because that section's statement when hazardous materials become hazardous wastes is also covered in 40 CFR 261.2 & 3. NH is equivalent to 40 CFR 261.2 & 3 in Env-Wm 400 & 800.
273.6 & 7—(RCL 181) | N/A—40 CFR 273.6 & 7 are reserved in the federal regulations.
261.8—(RCLs 142A & 181) | N/A—NH does not exempt household hazardous waste once it is collected or exempt very small quantity generators.
273.9—(RCLs 142A-D & 181) | Env-Wm 110.01(c)(9), (57), (74), (83), (91), (98), (130), (142)-(145), 1110.01(a)(1)(a), 1110.03(a)-(d). Env-Wm 1101.03(d)—a universal handler who accumulates 20,000 kgs or more is defined as a very large quantity handler and must meet the additional requirements in Env-Wm 1105. NH includes all mercury containing devices, not just thermostats, as well as additional wastes in its definition of universal waste.
273.10—(RCLs 142A & 181) | Env-Wm 1102.01 & 1103.01.
273.12—(RCL 142A) | Env-Wm 1102.02(a).
273.12—(RCL 142A) | Env-Wm 1103.02.
273.13—(RCLs 142A-D & 181) | Env-Wm 1102.03(b) & (c), 1102.06, 1109.03(a)-(d), 1110.04, 1111.03, & 1112.03(a). Env-Wm 1102.06 requires a universal waste handler to report a release to NHDES if it poses a threat to human health or the environment. Non-hazardous waste is regulated under NH Solid Waste Rules (Env-Wm 101, 201-205, 301-345, & 2100-3700).—40 CFR 273.13(a)(3)(ii) and (c)(3)(iii) were not adopted because the state's solid waste rules already apply to any non-hazardous waste.
273.14—(RCLs 142A-D & 181) | Env-Wm 1109.04, 1110.05(a), 1111.04, & 1112.04.
273.15—(RCL 142A) | Env-Wm 1102.04.
273.16—(RCL 142A) | Env-Wm 1103.03.
273.17(a) & (b)—(RCL 142A) | Env-Wm 1102.06 NH requires a universal waste handler to report a release to DES if it poses a threat to human health or the environment.
273.18—(RCL 142A) | Env-Wm 1102.07—Non-hazardous waste is regulated under NH Solid Waste Rules (Env-Wm 101, 201-205, 301-345, & 2100-3700)—40 CFR 273.18(h) was not adopted because the state's solid waste rules already apply to any non-hazardous waste.
273.19—(RCL 142A) | Env-Wm 1103.04.
273.20—(RCL 142A) | Env-Wm 1102.08—NH has not yet adopted RCL 152 which is an optional requirement.
273.30—(RCLs 142A & 181) | Env-Wm 1104.01 & 1105.01.
273.31—(RCL 142A) | Env-Wm 1102.02.
273.32(a)—(RCLs 142A & 142C) | Env-Wm 1104.03(a) & (b), 1105.03—NH requires that a universal waste handler notifies as a very large quantity handler if 20,000 kgs or more is accumulated and meet the additional requirements in Env-Wm 1105 and does not exempt handlers who have already notified EPA of hazardous waste—40 CFR 273.32(a)(3) was not adopted. NH is more stringent in requiring notifications.
273.32(b)—(RCLs 142A & 181) | Env-Wm 1104.03(b).
273.33(a)—(RCL 142B) | Env-Wm 1102.03(b) & (c) & 1109.03—Non-hazardous waste is regulated under NH Solid Waste Rules (Env-Wm 101, 201-205, 301-345, & 2100-3700)—40 CFR 273.33(a)(3)(ii) was not adopted because the state's solid waste rules already apply to any non-hazardous waste.
273.33(b)—(RCL 142C) | Env-Wm 1102.03(b) & (c), 1110.04, & 1110.06—NH has additional storage requirements for pesticides.
273.33(c)—(RCL 142D) | Env-Wm 1102.03(b) & (c), 1111.03—Non-hazardous waste is regulated under NH Solid Waste Rules (Env-Wm 101, 201-205, 301-345, & 2100-3700)—40 CFR 273.33(c)(3)(iii) was not adopted because the state's solid waste rules already apply to any non-hazardous waste.
273.33(d)—(RCLs 142A-D & 181) | Env-Wm 1102.03(b) & (c), 1102.06, & 1112.03(a)—NH requires a universal waste handler to report a release to DES if it poses a threat to human health or the environment.
273.34(d)—(RCLs 142A-D) | Env-Wm 1109.04, 1110.05, 1111.04, 1112.04, 1113.04 & 1114.04.
273.34(e)—(RCL 181) | Env-Wm 1112.04.
273.35(a), (b), & (c)—(RCL 142A) | Env-Wm 1102.04.
273.36—(RCL 142A) | Env-Wm 1104.4 & 1105.05.
273.37—(RCL 142A) | Env-Wm 1102.06—NH requires a universal waste handler to report a release to DES if it poses a threat to human health or the environment.
273.38—(RCL 142A) | Env-Wm 1102.07—Non-hazardous waste is regulated under NH Solid Waste Rules (Env-Wm 101, 201-205, 301-345, & 2100-3700)—40 CFR 273.38(h) was not adopted because the state's solid waste rules already apply to any non-hazardous waste.
273.39—(RCL 142A) | Env-Wm 1104.05, 1105.06, & 1105.07.
273.40—(RCL 142A) | Env-Wm 1102.08.
273.50—(RCLs 142 & 181) | Env-Wm 1106.01.
273.51—(RCL 142A) | Env-Wm 1106.02.
273.52—(RCL 142A) | Env-Wm 1106.03—40 CFR 273.52(b) was not adopted because the state's solid waste rules already apply to any non-hazardous waste.
273.53—(RCL 142A) | Env-Wm 1106.04.
273.54—(RCL 142A) | Env-Wm 1106.05—NH requires a universal waste handler to report a release to DES if it poses a threat to human health or the environment.
273.55—(RCL 142A) | Env-Wm 1106.06.
273.56—(RCLs 142A & 152) | Env-Wm 1106.07—NH has not adopted RCL 152.
273.61—(RCL 142A) | Env-Wm 1107.02—Non-hazardous waste is regulated under NH Solid Waste Rules (Env-Wm 101, 201-205, 301-345, & 2100-3700)—40 CFR 273.61(d) was not adopted because the state's solid waste rules already apply to any non-hazardous waste.
273.62—(RCL 142A) | Env-Wm 1107.03.
273.70—(RCLs 142A & 152) | Env-Wm 1101.02(b).
273.80 & 81—(RCL 142E) | Env-Wm 216.01 & 1108.01 & 02.
SPECIAL CONSOLIDATED CHECKLIST for the Toxicity Characteristic Revisions as of December 31, 2002
261.3(a)(2)—(RCLs IA, 65, 109, 117A & 192A) | N/A—NH does not exempt these mining waste mixtures (see Env-Wm 401.02(a)(3) & 404.01(a)(2)) and has not adopted RCLs 65, 109, 117A, & 192A, the noted mixture exemption, or delisting for federal wastes.
261.3(c)(2)(i)—(RCLs IA, 8, 13, 117A, & 192A) | N/A—NH had not adopted RCLs 117A & 192A.
261.3(g) & (h)—(RCL 192A) | N/A—NH had not adopted RCL 192A.
261.4(b)(6), (9), & (10)—(RCL 74 & 108) | Env-Wm 401.03(b)(5)—See Program Description for explanation, 401.03(b)(8) & (21).
261.4(b)(11)—(RCL 80) | N/A—extension has expired.
261.4(b)(12)—(RCL 84) | Env-Wm 401.03(b)(9).
261.24—(RCL 74) | Env-Wm 403.06 & Table 49.
261.30(b)—(RCL 74) | Env-Wm 402.01(b) & (c).
261, Appendix II—(RCLs 74 & 119) | Env-Wm 401.04.
264.301(d)(6) & (e)(1)—(RCL 74) | Env-Wm 708.03(d)(6).
265.221(d)(1)—(RCL 74) | Env-Wm 707.03(c).
265.273(a)—(RCL 74) | Env-Wm 707.03(e).
265.301(d)(1)—(RCL 74) | Env-Wm 707.03(f).
268, Appendix I—(RCLs 74, 126, & 157) | N/A—NH has not yet adopted 40 CFR 268 (LDR).
¹ State of New Hampshire's Hazardous Waste Rules, effective August 1, 2000 as amended on October 13, 2001.

Note: In addition to the regulations listed in the tables above, there are various previously authorized state base program regulations to which the state has made minor changes and additions. The EPA is also proposing to authorize these minor changes. The final authorization of new state regulations and regulation changes is in addition to the previous authorization of state regulations, which remain part of the authorized program.

The New Hampshire Base Program regulations previously authorized were scheduled to sunset in June 1991 as mandated by State Statute RSA 541-A:17 and were readopted in January 24, 1991. The New Hampshire Hazardous Waste Rules were readopted August 24, 1996 and were amended, effective November 26, 1996, January 7, 2000, February 26, 2000, and July 7, 2000, then re-adopted with amendments, effective August 1, 2000. Subsequent to the 2000 rule re-adoption, the rules were amended, effective October 13, 2001, including the adoption of a new rule chapter, Env-Wm 1100, Requirements for Universal Waste Management. The base program regulations have remained federally authorized notwithstanding their readoptions. The federally authorized program will be those readopted state regulations along with the changes authorized in 1994 and the changes being authorized today.

H. Where Are the Revised State Rules Different From the Federal Rules?

The most significant differences between the proposed State rules and the Federal rules are summarized below. It should be noted that this summary does not describe every difference, or every detail regarding the differences that are described. Members of the regulated community are advised to read the complete regulations to ensure that they understand all of the requirements with which they will need to comply.

1. More Stringent Provisions

There are aspects of the New Hampshire program which are more stringent than the Federal program. All of these more stringent requirements are, or will become, part of the federally enforceable RCRA program when authorized by the EPA and must be complied with in addition to the State requirements which track the minimum Federal requirements. These more stringent requirements include the following, which are more fully described in the Program Description:

a. New Hampshire requires that a universal waste handler notifies as a very large quantity handler if 20,000 kgs or more is accumulated and that they meet the additional requirements in Env-Wm 1105. This category is in addition to the Federal large quantity generator and small quantity generator categories.

b. New Hampshire's universal waste rule has additional storage requirements for pesticides.

c. New Hampshire allows Full Quantity Generators to accumulate F006 waste that meets certain conditions for more than 90 days (see Env-Wm 507.02(c)). However, New Hampshire's exemption is more stringent than the analogous federal one in that even generators of between 100 and 1000 kgs may only accumulate this waste for up to 180 days instead of 270 days. (New Hampshire has not adopted rules equivalent to 40 CFR 262.34(h) and (i).)

2. Different but Equivalent Provisions

New Hampshire also has some regulations which differ from, but have been determined to be equivalent to, the Federal regulations. These State regulations will become part of the Federally enforceable RCRA program when authorized by the EPA. These different but equivalent requirements include the following:

a. New Hampshire's definition of “universal waste” includes all the federal universal wastes, and also includes: all mercury containing devices (not just thermostats); motor vehicle antifreeze; and cathode ray tubes.

3. Broader in Scope

There are also aspects of the New Hampshire program which are broader in scope than the Federal program. The State requirements which are broader in scope are not considered to be part of the federally enforceable RCRA program. However, they are fully enforceable under State law and must be complied with by sources in New Hampshire. These broader in scope requirements include the following:

a. New Hampshire has adopted a manufactured gas plant waste exemption that is narrower than the Federal exemption to the toxicity characteristic at 40 CFR 261.24(a) and thus has a program that is partially broader in scope by including some wastes that the Federal government would exempt. The New Hampshire exemption is limited to manufactured gas plant contaminated media and debris that are characteristic for benzene only and are treated in an incinerator or thermal desorption unit.

I. Who Handles Permits After the Authorization Takes Effect?

New Hampshire will issue permits for all the provisions for which it is authorized and will administer the permits it issues. EPA will continue to administer and enforce any RCRA and HSWA (Hazardous and Solid Waste Act) permits or portions of permits which it has issued in New Hampshire prior to the effective date of this authorization until the State incorporates the terms and conditions of the Federal permits into the State RCRA permits. EPA will not issue any more new permits, or new portions of permits, for the provisions listed in the Table above after the effective date of this authorization. EPA will continue to implement and issue permits for any HSWA requirements for which New Hampshire is not yet authorized.

J. What Is Codification and Is EPA Codifying New Hampshire's Hazardous Waste Program as Authorized in This Rule?

Codification is the process of placing the State's statutes and regulations that comprise the State's authorized hazardous waste program into the Code of Federal Regulations. We do this by referencing the authorized State rules in 40 CFR part 272. We reserve the amendment of 40 CFR part 272, subpart EE for this authorization of New Hampshire's program until a later date.

K. Administrative Requirements

The Office of Management and Budget has exempted this action from the requirements of Executive Order 12866 (58 FR 51735, October 4, 1993); therefore, this action is not subject to review by OMB. This action authorizes State requirements for the purpose of RCRA 3006 and imposes no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (Pub. L. 104-4). For the same reason, this action also does not significantly or uniquely affect the communities or Tribal governments, as specified by Executive Order 13175 (65 FR 67249, November 9, 2000). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355 (May 22, 2001)) because it is not a significant regulatory actions under Executive Order 12866.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action nevertheless will be effective 60 days after it is published, because it is an immediate final rule.

List of Subjects in 40 CFR Part 271

Environmental protection, Administrative practice and procedure, Confidential business information, Hazardous materials transportation, Hazardous waste, Indians-lands, Intergovernmental relations, Penalties, Reporting and recordkeeping requirements.

Authority: This action is issued under the authority of sections 2002(a), 3006 and 7004(b) of the Solid Waste Disposal Act as amended 42 U.S.C. 6912(a), 6926, 6974(b).

Dated: February 9, 2006.
Robert W. Varney,
Regional Administrator, EPA New England.

[FR Doc. 06-1792 Filed 2-24-06; 8:45 am]

BILLING CODE 6560-50-P